DEPARTMENT OF COMMERCE

International Trade Administration

[A-823-805]

Silicomanganese From Ukraine: Notice of Rescission of Antidumping Duty Administrative Review

AGENCY: Enforcement and Compliance, International Trade Administration, Department of Commerce.

FOR FURTHER INFORMATION CONTACT: Dmitry Vladimirov or Minoo Hatten, AD/CVD Operations, Office I, Enforcement and Compliance, International Trade Administration, U.S. Department of Commerce, 1401 Constitution Avenue NW., Washington, DC 20230; telephone: (202) 482-0665, and (202) 482-1690, respectively.

SUPPLEMENTARY INFORMATION:

Background

On August 3, 2015, the Department of Commerce (the Department) published in the Federal Register a notice of “Opportunity to Request Administrative Review” of the antidumping duty order on silicomanganese from Ukraine for the period of review (POR), August 1, 2014, through July 31, 2015.¹ On September 3, 2015, we received an untimely-filed request ² for an administrative review from two Ukrainian producers and/or exporters of silicomanganese, JSC Zaporizhya Ferroalloy Plant (ZFP) and JSC Nikopol Ferroalloy Plant (NFP), requesting an administrative review of exports of subject merchandise for the period of September 1, 2014, through August 31, 2015. On September 21, 2015, we received comments from a domestic interested party, Eramet Marietta, Inc. (Eramet), objecting to initiation and placing on the record certain import statistics stating that there were no entries of subject merchandise from Ukraine during the period of review.

¹ See Antidumping or Countervailing Duty Order, Finding, or Suspended Investigation; Opportunity to Request Administrative Review, 80 FR 45952 (August 3, 2015) (August 2015 Opportunity Notice).

² The Ukrainian producers' September 3, 2015, request for an administrative review was untimely under 19 CFR 351.213(b) and 19 CFR 351.302(d) because we did not receive it during the anniversary month of August 2015, as required by the regulations and specified in the August 2015 Opportunity Notice.

On October 6, 2015, the Department initiated the administrative review of the antidumping duty order on silicomanganese from Ukraine with respect to ZFP and NFP for the POR, August 1, 2014, through July 31, 2015,³ notwithstanding the untimely nature of the Ukrainian producers' request for review.

³ See Initiation of Antidumping and Countervailing Duty Administrative Reviews, 80 FR 60356 (October 6, 2015).

In accordance with our practice, we requested information from U.S. Customs and Border Protection (CBP) concerning imports of subject merchandise from these companies during the POR. We received the requested CBP information, which showed that neither ZFP nor NFP had suspended entries of subject merchandise during the POR. On October 6, 2015, we documented this finding and invited comments from interested parties regarding this CBP query result.⁴

⁴ See Memorandum to the File, “Silicomanganese from Ukraine—U.S. Customs and Border Protection (CBP) Data” dated October 6, 2015.

On October 19, 2015, we received comments from domestic interested parties, Eramet and Felman Production, LLC (collectively, U.S. producers). On October 20, 2015, we received comments from ZFP and NFP (Ukrainian producers). ZFP's and NFP's October 20, 2015, submission contained documentation establishing that both companies made both a sale and an entry of subject merchandise in August 2015.

Because there is no evidence that there were entries of subject merchandise into the United States from Ukraine during the POR, on November 17, 2015, the Department placed a memorandum on the record notifying interested parties of its intent to rescind the 2014-2015 administrative review of silicomanganese from Ukraine, and invited comments.⁵ In its November 17, 2015, memorandum, the Department rejected the Ukrainian producers' arguments that the Department provided defective or inadequate notice concerning the correct anniversary month of the antidumping duty order on silicomanganese from Ukraine, and found no basis to alter the POR to capture the Ukrainian producers' entries of subject merchandise made after the POR.⁶

⁵ See Memorandum to James Maeder, Senior Director for AD/CVD Operations, Office I, “2014-2015 Antidumping Duty Administrative Review of Silicomanganese from Ukraine; Intent to Rescind Administrative Review” dated November 17, 2015.

⁶ Id.

On November 24, 2015, we received comments from ZFP and NFP. On November 30, 2015, we received rebuttal comments from U.S. producers.

Rescission of Review

It is the Department's practice to rescind an administrative review pursuant to 19 CFR 351.213(d)(3) when there are no suspended entries of subject merchandise during the POR from the country in question.⁷ At the end of an administrative review, all suspended entries during the POR for the parties under review are liquidated at the assessment rate computed in the final results of review.⁸ Therefore, since the purpose of an administrative review is to assess antidumping duties, there must be a suspended AD/CVD entry to be liquidated at the newly calculated assessment rate. As discussed in the Decision Memorandum accompanying this notice,⁹ we find that, because there were no entries of subject merchandise during the POR from Ukraine, we are rescinding the 2014-2015 administrative review of the antidumping duty order on silicomanganese from Ukraine, pursuant to 19 CFR 351.213(d)(3).

⁷ See, e.g., Certain Frozen Warmwater Shrimp From Brazil: Notice of Rescission of Antidumping Duty Administrative Review, 77 FR 32498 (June 1, 2012).

⁸ See 19 CFR 351.212(b)(l).

⁹ See Memorandum to James Maeder, Senior Director for AD/CVD Operations, Office I, “2014-2015 Antidumping Duty Administrative Review of Silicomanganese from Ukraine; Rescission of Administrative Review” dated concurrently with this notice (Decision Memorandum).

Analysis of Comments Received

All issues raised by parties in this administrative review are addressed in the accompanying Decision Memorandum, which is adopted by this notice. The Decision Memorandum is a public document and is on file electronically via Enforcement and Compliance's Antidumping and Countervailing Duty Centralized Electronic Service System (ACCESS). ACCESS is available to registered users at http://access.trade.gov, and to all parties in the Central Records Unit, room B8024 of the main Department of Commerce building. In addition, a complete version of the Decision Memorandum can be accessed directly on the internet at http://enforcement.trade.gov/frn/index.html. The signed and electronic versions of the Decision Memorandum are identical in content.

This notice is published in accordance with section 751 of the Tariff Act of 1930, as amended, and 19 CFR 351.213(d)(4).

Dated: April 7, 2016.
Christian Marsh,
Deputy Assistant Secretary for Antidumping and Countervailing Duty Operations.

[FR Doc. 2016-08787 Filed 4-14-16; 8:45 am]

BILLING CODE 3510-DS-P